DEPARTMENT OF HEALTH AND HUMAN SERVICES

[Document Identifier: OS-0990-0221; 60-day notice]

Notice of Request for Public Comment

AGENCY: Office of the Secretary, HHS.

Agency Information Collection Activities: Proposed Collection; Comment Request

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60-days.

Proposed Project: Family Planning Annual Report: Forms and Instructions- OMB No. 0990-0221—Extension—Office of Population Affairs—Title X Family Planning Program.

Abstract: This request is for a 3-year approval of the Family Planning Annual Report: Forms and Instructions (FPAR). This is an annual reporting requirement for family planning service delivery projects authorized and funded under the Population Research and Voluntary Family Planning Programs (Section 1001 Title X of the Public Health Service Act, 42 U.S.C. 300). The FPAR is the only source of annual, uniform reporting by all Title X family planning service grantees, which include public and private non-profit public health agencies. OPA uses FPAR data to monitor compliance with statutory requirements, to comply with accountability and performance requirements for GPRA and HHS plans, and to guide program planning and evaluation.

Estimated Annualized Burden Table
Forms | Type of respondent | Number of respondents | Number of responses per respondent | Average burden (in hours) per response | Total burden hours
FPAR: Forms and Instructions | Title X service grantee | 88 | 1 | 40 | 3,520

Seleda Perryman,
Office of the Secretary, Paperwork Reduction Act Clearance Officer.

[FR Doc. 2010-20125 Filed 8-13-10; 8:45 am]

BILLING CODE 4150-34-P